DEPARTMENT OF THE INTERIOR

Bureau of Land Management

[ID-074-1220-PA-241A]

Final Notice of Closure of Certain Lands

AGENCY: Bureau of Land Management, Interior.

ACTION: Final notice of closure of certain lands to off-highway vehicle use to implement the Medicine Lodge Resource Management Plan, and Big Desert Management Framework Plan, Upper Snake River District, Idaho.

SUMMARY: With the publication of this Notice, the Bureau of Land Management announces the closure of seasonal restriction of certain BLM-administered lands within the Idaho Falls Field Office. A complete description of these lands and the off-highway vehicle restrictions was previously published in the Federal Register [66 FR 6653-6655].

SUPPLEMENTARY INFORMATION: No public comments were received within the 30 day deadline following publication, which ended February 21, 2001. The closures include small parcels of land in the following areas: Tex Creek/Willow Creek, Stinking Springs, Big Bend Ridge, and lands adjacent to the South Fork of the Snake and Main Snake Rivers. More information on these closures is available in the Federal Register Notice cited above, or at the BLM office listed below.

FOR FURTHER INFORMATION CONTACT: Jeff Gardetto, Wildlife Management Biologist, BLM Idaho Falls Field Office, 1405 Hollipark Dr., Idaho Falls, Idaho 83401. Telephone (208) 524-7500.

Dated: April 6, 2001.
Joe Kraayenbrink,
Idaho Falls Field Manager.

[FR Doc. 01-16872 Filed 7-5-01; 8:45 am]

BILLING CODE 4310-GG-P